DEPARTMENT OF TRANSPORTATION

Federal Aviation Administration

Notice of Intent To Rule on Change in Use of Aeronautical Property at Bowman Field Airport, Louisville, KY

AGENCY: Federal Aviation Administration (FAA), DOT.

ACTION: Request for public comment.

SUMMARY: The Federal Aviation Administration is requesting public comment on request by the Louisville Regional Airport Authority to temporarily change a portion of airport property from aeronautical to non-aeronautical use at the Bowman Field Airport, Louisville, Kentucky. The request consists approximately of 0.41 acres of temporary use. This action is taken under the provisions of Section 125 of the Wendell H. Ford Aviation Investment Reform Act for the 21st Century (AIR 21).

DATES: Comments must be received on or before November 29, 2013.

ADDRESSES: Documents are available for review at the Louisville Regional Airport Authority, 700 Administration Drive, Louisville, KY 40209; and the FAA Memphis Airports District Office, 2600 Thousand Oaks Boulevard, Suite 2250, Memphis, TN 38118-2482. Written comments on the Sponsor's request must be delivered or mailed to: Mr. Phillip J. Braden, Manager, Memphis Airports District Office, 2600 Thousand Oaks Boulevard, Suite 2250, Memphis, TN 38118-2482.

In addition, a copy of any comments submitted to the FAA must be mailed or delivered to Mr. Charles T. Miller, Executive Director, Louisville Regional Airport Authority, P.O. Box 9129, Louisville, KY 40209.

FOR FURTHER INFORMATION CONTACT: Mr. Tommy L. Dupree, Team Lead/Civil Engineer, Federal Aviation Administration, Memphis Airports District Office, 2600, Thousand Oaks Boulevard, Suite 2250, Memphis, TN 38118-2482. The application may be reviewed in person at this same location, by appointment.

SUPPLEMENTARY INFORMATION: The FAA proposes to rule and invites public comment on the request to lease property for non-aeronautical purposes at Bowman Field Airport, Louisville, KY 42103. Under the provisions of AIR 21 (49 U.S.C. 47107(h)(2)).

On September 30, 2013, the FAA determined that the request to lease property for non-aeronautical purposes at Bowman Field Airport meets the procedural requirements of the Federal Aviation Administration. The FAA may approve the request, in whole or in part, no later than November 29, 2013.

The following is a brief overview of the request:

The Louisville Regional Airport Authority is proposing the lease of approximately 0.41 acres, a partial of Parcel 48, bounded by Roger E. Schupp Street to the north, Dutchman's Lane to the south, Tucker Boulevard to the east, and Gast Boulevard to the west. The non-aeronautical lease is for a period of 5 (five) years, with an option of 5 (five) years that can be exercised by the airport authority. The non-aeronautical lease is for the purpose of leasing said property to an adjacent land owner, The Jewish Family & Career Services of Louisville, Inc., to be used as a parking lot.

Any person may inspect, by appointment, the request in person at the FAA office listed above under FOR FURTHER INFORMATION CONTACT.

Issued in Memphis, TN on September 30, 2013.
Phillip J. Braden,
Manager, Memphis Airports District Office, Southern Region.

[FR Doc. 2013-25585 Filed 10-28-13; 8:45 am]

BILLING CODE 4910-13-P